DEPARTMENT OF THE INTERIOR

Bureau of Land Management

[MT-022-1320-DB]

Notice of Availability

AGENCY: Bureau of Land Management (BLM), Montana, Miles City Field Office, Interior.

ACTION: Notice of availability of the environmental assessment, Powder River resource area resource mangement plan amendment (PRRA RMP), and request for public comment on the fair market value (FMV) and maximum economic recovery (MER) report for Spring Creek Coal Company, Powder River coal region, Big Horn County, Montana.

SUMMARY: The Bureau of Land Management announces the availability of the Environmental Assessment (EA) and RMP Amendment for Spring Creek Coal Company's Federal Coal Lease Application MTM 88405 and the Finding of No Significant Impact (FONSI) for the federal coal resources subject to the federal lease application. This preferred alternative would amend the Powder River Resource Management Plan (1985) if certain federal coal leasing unsuitability designations on or adjacent to the federal coal tracts are changed. The analysis is based on existing statutory requirements and will meet the requirements of the Federal Land Policy and Management Act (FLPMA) of 1976 and the Surface Mining Control and Reclamation Act (SMCRA) of 1977. The public is invited to submit written comments on the FMV, and MER. Notice is also given that a public hearing on the EA, FMV and MER will be held on Tuesday, August 1, 2000, at 1:00 p.m., Mountain Daylight Time, at the BLM Montana State Office, 5001 Southgate Drive, Billings, Montana.

On June 26, 1998, Spring Creek Coal Company (SCCC) filed an application with the BLM to lease a 150 acre tract containing about 19.8 million tons of federally owned coal reserves near the Spring Creek Coal Mine. On June 3, 1998, Spring Creek Coal Company filed an application with the State of Montana Department of Natural Resources and Conservation (DNRC) to lease a 479 acre state owned coal tract. The tract, which would consist of three separate state leases, contains an estimated 62.1 million tons of state owned coal.

As Co-Lead Agencies, the BLM and Montana DNRC prepared one EA to evaluate the impacts of coal mining which would result from leasing the tracts of federal and state coal.

The resource management planning process includes an opportunity for review of BLM's decisions through a plan protest to the Director of the BLM. Any person or organization who participated in the planning process and has an interest which is or may be adversely affected by the approval of BLM's decisions in the resource management plan amendment may protest the plan. Careful adherence to the following guidelines will assist in preparing a protest which will assure the greatest consideration for your viewpoint.

Only those persons or organizations who participated in the planning process may protest the plan.

A protesting party may raise only those issues which were commented on during the planning process.

Additional issues may be raised at any time and should be directed to the Miles City Field Office for consideration in plan implementation, as potential plan amendments, or as otherwise appropriate.

DATES: The protest period lasts 30 days and begins the day the Notice of Availability for this document is published in the Federal Register. There is no provision for an extension of time. Protests filed late, or filed with the State Director or Field Office Manager shall be rejected by the Director. In order to be “timely”, your protest must be sent to the Director of BLM and must be postmarked no later than August 14, 2000. Although not a requirement, sending your protest by certified mail, return receipt requested, is recommended.

The comment period on the FMV and MER also lasts 30 days. Comments on FMV and MER must be received on or before August 14, 2000 and should be sent to Randy Heuscher, Chief Branch of Solid Minerals, Montana State Office, P.O Box 36800, Billings, Montana 59107. The public hearing on the EA, FMV and MER will be held on Tuesday, August 1, 2000, at 1:00 p.m., Mountain Daylight Time, at the BLM Montana State Office, 5001 Southgate Drive, Billings, Montana.

ADDRESSES: All protests must be filed in writing to: Director, Bureau of Land Management, Attention: Miss Brenda Williams, Protests Coordinator, 1849 C Street N.W., WO-210/LS-1075, Department of the Interior, Washington, D.C. 20240.

Overnight mail address: Director, Bureau of Land Management, Attention: Miss Brenda Williams, Protests Coordinator, 1620 L Street N.W., Room 1075, Washington, D.C. 20036.

To expedite consideration, in addition to the original sent by mail, a copy may be sent by: FAX (202) 452-5112; or Email to bhudgens@wo.blm.gov.

In order to be considered complete, your protest must contain, at a minimum, the following information:

1. The name, mailing address, telephone number and interest of the person filing the protest.

2. A statement of the issue being protested.

3. A statement of the portion of the plan being protested. To the extent possible, this should be done by reference to specific pages, paragraphs, sections, tables, and maps in the proposed plan.

4. A copy of all documents addressing the issue submitted during the planning process or a reference to the date the issue was discussed for the record.

5. A concise statement explaining why the BLM State Director's decision is believed to be incorrect is a critical part of the protest. Take care to document all relevant facts and to reference or cite the planning documents, environmental analysis documents, and available planning records (meeting minutes, summaries, correspondence). A protest without data will not provide BLM with the benefit of your information and insight, and the Directors review will be based on the existing analysis and supporting data.

At the end of the 30-day protest period, the BLM may issue a Decision Record, approving implementation of any portion of the proposed plan not under protest. Approval will be withheld on any portion of the plan under protest with BLM until the protest is resolved.

At the end of the 30 day protest period, the Montana DNRC may issue a Decision Record for the minerals they administer.

Comments on the FMV and MER should be sent to Randy Heuscher, Chief Branch of Solid Minerals, Montana State Office, P.O. Box 36800, Billings, Montana 59107.

FOR FURTHER INFORMATION CONTACT: Dan Benoit, Project Leader, Miles City Field Office, 111 Garryowen Road, Miles City, Montana, 59301, phone (406) 232-7001 ext. 3646. Copies of the EA are also available from this address.

SUPPLEMENTARY INFORMATION: In accordance with the Federal coal management regulations at 43 CFR 3422 and 3425, not less than 30 days prior to publication of a notice of sale, the Secretary shall solicit public comments on the proposed sale, fair market value, and maximum economic recovery on the proposed lease tract. Proprietary data marked as confidential may be submitted to the Bureau of Land Management in response to this solicitation of public comments. Data so marked shall be treated in accordance with the laws and regulations governing the confidentiality of such information. A copy of the comments submitted by the public on fair market value and maximum economic recovery, except those portions identified as proprietary by the author and meeting exemptions stated in the Freedom of Information Act, will be available for public inspection at the Bureau of Land Management, 5001 Southgate Drive, Billings, Montana 59102, during regular business hours (9 a.m. to 4 p.m.) Monday through Friday.

Comments should be sent to the Bureau of Land Management, P.O. Box 36800, Billings, Montana 59017-6800, and should include, but not necessarily be limited to the following:

1. The quality and quantity of the coal resources;

2. The mining method or methods which would achieve maximum economic recovery of the coal including specification of the seams to be mined, timing and rate of production, restriction to mining, and inclusion of the tract in an existing mining operation; and

3. The fair market value appraisal including but not limited to the evaluation of the tract as an incremental unit of an existing mine, selling price of the coal, mining and reclamation costs, net present value discount factors, depreciation and other tax accounting factors, value of the surface estate, and any comparable sales data of similar coal lands.

The values given above may or may not change as a result of comments received from the public and changes in market conditions between now and when final economic evaluations are completed.

The EA addresses the cultural, socioeconomic, environmental and cumulative impacts that would likely result from leasing these coal lands. The Proposed Action and two alternatives are addressed in the EA:

Proposed Action—would involve leasing the coal tracts containing about 82 million tons of state and federal coal. Certain coal leasing unsuitability designations for wildlife habitat concerns attached to the federal lease tract would require mitigation in order to lease the coal.

Alternative A (Preferred Alternative)—would involve leasing the coal tracts as well as redesignating certain coal leasing unsuitability designations established for wildlife habitat concerns adjacent to the proposed lease tracts and to the Spring Creek Mine property in general.

Alternative B—would reject or deny the federal coal lease application. The federal coal lands would not be offered for lease.

The lands included in the coal lease applications are located in Big Horn County, Montana and are described as follows:

Federal Lease Tract MTM 88405

T. 8 S., R. 39 E., P.M.M.

Sec. 13: SW¼SW¼SW¼, SW¼SE¼SW¼SW¼;

Sec. 14: S½SW¼NE¼SE¼, S½NE¼SE¼SE¼, NW¼NE¼SE¼SE¼, S½SE¼SE¼, NW¼SE¼SE¼;

Sec. 23: NE¼NE¼, SE¼SW¼NW¼NE¼, N½SW¼NW¼NE¼, E½NW¼NE¼; Sec. 24: NW¼SE¼NW¼NW¼, N½SW¼NW¼NW¼, N½NW¼NW¼.

150 acres, more or less.

State of Montana Lease Tracts

Lease C-1099-XX.

T. 8 S., R., 39 E., P.M.M.

Sec. 14: S½S½NW¼, SW¼, W½SE¼.

Lease C-1100-XX.

T. 8 S., R., 39 E., P.M.M.

Sec. 15: NE¼SW¼SE¼, SE¼SE¼, N½SE¼, S½SE¼NE¼.

Lease C-1101-XX.

T. 8 S., R., 39 E., P.M.M.

Sec. 23: N½N½NW¼, NW¼NW¼NE¼.

479.16 acres, more or less.

The BLM and Montana DNRC are also coordinating the preparation of a mineral evaluation pursuant to 77-3-312, MCA, covering the state coal tracts. This document is available for review and comment from Montana DNRC. For further information, or to obtain a copy of the mineral evaluation, contact Monte Mason, Montana DNRC, phone (406) 444-3843.

Dated: June 26, 2000.
Timothy M. Murphy,
Field Manager.

[FR Doc. 00-17218 Filed 7-13-00; 8:45 am]

BILLING CODE 4310-$$-P